INTERNATIONAL TRADE COMMISSION

[Investigation No. 337-TA-1179]

Certain Pouch-Type Battery Cells, Battery Modules, and Battery Packs, Components Thereof, and Products Containing the Same; Commission Determination Not To Review an Initial Determination Granting a Joint Motion To Terminate the Investigation on the Basis of a Settlement Agreement; Termination of Investigation

AGENCY: U.S. International Trade Commission.

ACTION: Notice.

SUMMARY: Notice is hereby given that the U.S. International Trade Commission (“Commission”) has determined not to review an initial determination (“ID”) (Order No. 74) of the presiding chief administrative law judge (“CALJ”) granting a joint motion to terminate the investigation on the basis of a settlement agreement. The investigation is terminated.

FOR FURTHER INFORMATION CONTACT: Michael Liberman, Esq., Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation under section 337 of the Tariff Act of 1930, as amended, 19 U.S.C. 1337 (“section 337”) on October 9, 2019, based on a complaint filed by SK Innovation Co., Ltd. of Seoul, Republic of Korea and SK Battery America, Inc. of Atlanta, Georgia (collectively, “SK”). 84 FR 54173-74 (Oct. 9, 2019). The complaint alleges a violation of section 337 based upon the importation into the United States, the sale for importation, and the sale within the United States after importation of certain pouch-type battery cells, battery modules, and battery packs, components thereof, and products containing the same by reason of infringement of claims 1-36 of U.S. Patent No. 10,121,994 (“the ’994 patent”). The complaint named as respondents LG Chem, Ltd. of Seoul, Republic of Korea, and LG Chem Michigan, Inc. of Holland, Michigan (collectively, “LG”). The Commission's Office of Unfair Import Investigations (“OUII”) also was named as a party. Subsequently, the investigation was terminated in part based on withdrawal of the complaint as to claims 8, 9, 17, 26, 27, and 35 of the ’994 patent. Order No. 23 (March 25, 2020), unreviewed by Notice (Apr. 22, 2020). Further, the Commission determined that the economic prong of the domestic industry is satisfied. Order No. 51 (Dec. 14, 2020), reviewed, and on review, affirmed with modified reasoning by Notice (Jan. 14, 2021). Also, the Commission determined to allow complainants: (1) To amend the complaint and notice of investigation to reflect the respondents' corporate reorganization and (2) to withdraw allegations concerning certain claims of the ’994 patent from the complaint. Order No. 53 (Jan. 11, 2021), unreviewed by 86 FR 9368-69 (Feb. 12, 2021).

On May 25, 2021, complainants SK and respondents LG (together, the “Private Parties”) moved jointly to terminate the investigation on the basis of a settlement agreement (“Agreement”). On May 27, 2021, OUII filed a response in support of the joint motion. On May 28, 2021, the Private Parties were directed to file a revised public version of the Agreement. Order No. 73. Pursuant to Order No. 73, the Private Parties filed a revised public version of the Agreement on June 1, 2021.

On June 2, 2021, the CALJ issued the subject ID granting the subject motion. The ID finds that the Agreement completely resolves the dispute as to the Private Parties. The ID also finds that consistent with Commission Rule 210.21(b)(1) (19 CFR 210.21(b)(1)), the Private Parties aver that there are no other agreements, written or oral, express or implied, between them concerning the subject matter of this investigation. ID at 2 (citing Mot. at 2). The ID also finds that termination of this investigation does not impose any undue burdens on the public health and welfare, competitive conditions in the United States economy, production of like or directly competitive articles in the United States, or United States consumers. Id.; see 19 CFR 210.50(b)(2). No party petitioned for review of the ID.

The Commission has determined not to review the subject ID. The investigation is terminated in its entirety.

The Commission vote for this determination took place on June 25, 2021.

The authority for the Commission's determination is contained in section 337 of the Tariff Act of 1930, as amended (19 U.S.C. 1337), and in Part 210 of the Commission's Rules of Practice and Procedure (19 CFR part 210).

By order of the Commission.
Issued: June 28, 2021.
Lisa Barton,
Secretary to the Commission.

[FR Doc. 2021-14080 Filed 6-30-21; 8:45 am]

BILLING CODE 7020-02-P